SMALL BUSINESS ADMINISTRATION

[License No. 03/03-0264]

Boathouse Capital II, L.P.; Notice Seeking Exemption Under Section 312 of the Small Business Investment Act, Conflicts of Interest

Notice is hereby given that Boathouse Capital II, L.P., 200 West Lancaster Avenue, Suite 206, Wayne, PA 19087, Federal Licensees under the Small Business Investment Act of 1958, as amended (“the Act”), in connection with the financing of a small concern, has sought an exemption under section 312 of the Act and section 107.730, Financings which Constitute Conflicts of Interest of the Small Business Administration (“SBA”) Rules and Regulations (13 CFR 107.730). Boathouse Capital II, L.P. provided financing to AvidXchange, Inc., 4421 Stuart Andrew Boulevard, Suite 200, Charlotte, NC 28217. The financing was contemplated for the acquisition of Strongroom Solutions, Inc. and working capital purposes.

The financing is brought within the purview of § 107.730(a)(1) of the Regulations because Boathouse Capital, L.P., an Associate of Boathouse Capital II, L.P., has the potential to own more than ten percent of AvidXchange. Therefore, this transaction is considered a financing of an Associate requiring an exemption.

Notice is hereby given that any interested person may submit written comments on the transaction within fifteen days of the date of this publication to the Acting Associate Administrator for Investment, U.S. Small Business Administration, 409 Third Street SW., Washington, DC 20416.

Javier Saade,
Associate Administrator, Office of Investment & Innovation.

[FR Doc. 2015-15349 Filed 6-22-15; 8:45 am]

BILLING CODE P